COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities, and deletes products and services previously furnished by such agencies.

DATES: Comments must be received on or before: June 16, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and service are proposed for addition to the Procurement List for production by the nonprofit agencies listed:

Products

NSN—Product Name: MR 1086—Mop, Spritz and Go

Mandatory Source of Supply: LC Industries, Inc., Durham, NC

Contracting Activity: Military Resale-Defense Commissary Agency

NSN—Product Name: 8540-01-378-6218—Tissue, Toilet, Jumbo, 1-Ply, 3.5″ x 4000′, White, 6 Rolls

Mandatory Source of Supply: Outlook Nebraska, Inc, Omaha, NE

Mandatory For: Total Government Requirement

Contracting Activity: FEDERAL ACQUISITION SERVICE, GSA/FAS ADMIN SVCS ACQUISITION BR(2

Service

Service Type: Waste Management

Mandatory for: U.S. Navy, NAVFAC Mid Atlantic Division, Naval Submarine Base New London, Groton, CT

Mandatory Source of Supply: CW Resources, Inc., New Britain, CT

Contracting Activity: DEPT OF THE NAVY, NAVAL FAC ENGINEERING CMD MID LANT

Deletions

The following products and services are proposed for deletion from the Procurement List:

Products

NSN—Product Name: 7920-01-626-8205—Sponge, All-Purpose, Nylon Mesh, 7½″ x 4¼″ x 1¾″

Mandatory Source of Supply: Alphapointe, Kansas City, MO

Contracting Activity: GSA/FSS GREATER SOUTHWEST ACQUISITI, FORT WORTH, TX

NSN—Product Name: 7045-01-086-2044—Tape, Electronic Data Processing

Mandatory Source of Supply: North Central Sight Services, Inc., Williamsport, PA

Contracting Activity: DLA TROOP SUPPORT, PHILADELPHIA, PA

NSN—Product Name: 7510-01-625-0850—Toner Cartridge, Laser, Extra High Yield, Lexmark E260 Series

Mandatory Source of Supply: Alabama Industries for the Blind, Talladega, AL

Contracting Activity: GSA/FAS ADMIN SVCS ACQUISITION BR(2, NEW YORK, NY

NSNs—Product Names:

7360-00-935-6408—Dining Packet

7360-00-935-6409—Dining Packet

7360-00-935-6410—Dining Packet

7360-00-935-6411—Dining Packet

7360-00-935-6412—Dining Packet

7360-00-935-6413—Dining Packet

Mandatory Source of Supply: Georgia Industries for the Blind, Bainbridge, GA

Contracting Activity: DLA TROOP SUPPORT, PHILADELPHIA, PA

NSN—Product Name: 7530-01-600-2023—Notebook, Spiral Bound, Biobased Bagasse Paper, 6 x 9½″, 150 sheets, College Rule, White

Mandatory Source of Supply: Winston-Salem Industries for the Blind, Inc., Winston-Salem, NC

Contracting Activity: GSA/FAS ADMIN SVCS ACQUISITION BR(2, NEW YORK, NY

NSNs—Product Names:

7360-00-177-4958—Dining Packet (Dietetic)

7360-00-177-4959—Dining Packet (Dietetic)

7360-00-177-4960—Dining Packet (Dietetic)

7360-00-177-4961—Dining Packet (Dietetic)

7360-00-177-4962—Dining Packet (Dietetic)

7360-00-177-4963—Dining Packet (Dietetic)

7360-00-935-6416—Dining Packet (Dietetic)

7360-00-935-6417—Dining Packet (Dietetic)

7360-00-935-6420—Dining Packet (Dietetic)

7360-00-935-6421—Dining Packet (Dietetic)

Mandatory Source of Supply: Georgia Industries for the Blind, Bainbridge, GA

Contracting Activity: DLA TROOP SUPPORT, PHILADELPHIA, PA

Services

Service Type: Janitorial/Custodial

Mandatory for: U.S. Army, 1LT John S. Turner USARC, Fairfield, CT

Mandatory Source of Supply: CW Resources, Inc., New Britain, CT

Contracting Activity: DEPT OF THE ARMY, W6QK ACC-PICA

Service Type: Grounds Maintenance

Mandatory for: U.S. Army Reserve Center: 50 East Street, Springfield, MA

Mandatory Source of Supply: CW Resources, Inc., New Britain, CT

Contracting Activity: DEPT OF THE ARMY, W40M RHCO-ATLANTIC USAHCA

Service Type: Janitorial Service

Mandatory for: Norman Military Complex (excluding Norman Armed Force Reserve Center), Norman, OK

Mandatory Source of Supply: Dale Rogers Training Center, Inc., Oklahoma City, OK

Contracting Activity: DEPT OF THE ARMY, W7NV USPFO ACTIVITY OK ARNG

Service Type: Janitorial/Grounds Maintenance

Mandatory for: West Hill Dam, Uxbridge, MA

Mandatory Source of Supply: UNKNOWN

Contracting Activity: DEPT OF THE ARMY, W40M RHCO-ATLANTIC USAHCA

Service Type: Janitorial/Custodial

Mandatory for: Austin AFRC #1, 4601 Fairview Drive, Austin, TX

Mandatory Source of Supply: Blue Solutions, Austin, TX

Contracting Activity: DEPT OF THE ARMY, W6QM MICC-PRESIDIO (RC-W)

Service Type: Document Destruction

Mandatory for: Aberdeen Proving Ground: Building 314, Northeast Civilian Personnel Operation Center, Aberdeen Proving Ground, MD

Mandatory Source of Supply: The Arc Northern Chesapeake Region, Incorporated, Aberdeen, MD

Contracting Activity: DEPT OF THE ARMY, W40M RHCO-ATLANTIC USAHCA

Service Type: Pest Control

Mandatory for: Healthy Beginnings Child Development Center: 5610 Fishers Lane, Rockville, MD

Mandatory Source of Supply: Davis Memorial Goodwill Industries, Washington, DC

Contracting Activity: HEALTH AND HUMAN SERVICES, DEPARTMENT OF, DEPT OF HHS

Service Type: Pest Control

Mandatory for: Parklawn Building: 5600 Fishers Lane, Rockville, MD

Mandatory Source of Supply: Davis Memorial Goodwill Industries, Washington, DC

Contracting Activity: HEALTH AND HUMAN SERVICES, DEPARTMENT OF, DEPT OF HHS

Service Type: Janitorial/Custodial

Mandatory for: Defense Logistics Agency: DNSZ Curtis Bay Depot, Baltimore, MD

Mandatory Source of Supply: The Arc Baltimore, Inc., Baltimore, MD

Contracting Activity: DEFENSE LOGISTICS AGENCY, DLA SUPPORT SERVICES—DSS

Service Type: Janitorial/Grounds Maintenance

Mandatory for: U.S. Army Reserve Center, TSG Harold C. Lockwood USARC, Malone, NY

Mandatory Source of Supply: Citizen Advocates, Inc., Malone, NY

Contracting Activity: DEPT OF THE ARMY, W6QK ACC-PICA

Patricia Briscoe,
Deputy Director, Business Operations (Pricing and Information Management).

[FR Doc. 2019-10278 Filed 5-16-19; 8:45 am]

BILLING CODE 6353-01-P